FEDERAL HOUSING FINANCE AGENCY

12 CFR Parts 1209, 1217, and 1250

RIN 2590-AB20

Rules of Practice and Procedure; Civil Money Penalty Inflation Adjustment

AGENCY: Federal Housing Finance Agency.

ACTION: Final rule; correction.

SUMMARY: The Federal Housing Finance Agency (FHFA) is correcting a final rule that was published in the Federal Register on January 12, 2022, amending its Rules of Practice and Procedure and other agency regulations to adjust each civil money penalty within its jurisdiction to account for inflation, pursuant to the Federal Civil Penalties Inflation Adjustment Act of 1990, as amended by the Federal Civil Penalties Inflation Adjustment Act Improvements Act of 2015. In that publication, the Regulatory Identification Number (RIN) for the FHFA was incorrect. This document corrects that error.

DATES: Effective April 6, 2022, and applicable beginning January 15, 2022.

FOR FURTHER INFORMATION CONTACT: Frank R. Wright, Assistant General Counsel, at (202) 649-3087, Frank.Wright@fhfa.gov (not a toll-free number); Federal Housing Finance Agency, 400 7th Street SW, Washington, DC 20219. For TTY/TRS users with hearing and speech disabilities, dial 711 and ask to be connected to any of the contact numbers above.

SUPPLEMENTARY INFORMATION: In FR Doc. 2022-00361, “Rules of Practice and Procedure; Civil Money Penalty Inflation Adjustment” that published in the Federal Register on Wednesday, January 12, 2022 at 87 FR 1659, in the first column on page 1659, correct the RIN to read 2590-AB20.

Sandra L. Thompson,
Acting Director, Federal Housing Finance Agency.

[FR Doc. 2022-07176 Filed 4-5-22; 8:45 am]

BILLING CODE 8070-01-P